DEPARTMENT OF ENERGY

Federal Energy Regulatory Commission

Notice of Effectiveness of Exempt Wholesale Generator Status

| Docket Nos.
Cottontail Solar 2, LLC | EG22-19-000
Cottontail Solar 8, LLC | EG22-20-000
Black Bear Alabama Solar Tenant, LLC | EG22-21-000
Skipjack IA, LLC | EG22-22-000
Arlington Energy Center III, LLC | EG22-23-000
Meadow Lake Solar Park LLC | EG22-24-000
Gruver Wind Interconnection, LLC | EG22-25-000
Parkway Generation Essex, LLC | EG22-26-000

Take notice that during the month of January 2022, the status of the above-captioned entities as Exempt Wholesale Generators became effective by operation of the Commission's regulations. 18 CFR 366.7(a) (2021).

Dated: February 11, 2022.
Kimberly D. Bose,
Secretary.

[FR Doc. 2022-03425 Filed 2-16-22; 8:45 am]

BILLING CODE 6717-01-P